FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than October 5, 2023.

A. Federal Reserve Bank of St. Louis (Holly A. Rieser, Senior Manager) P.O. Box 442, St. Louis, Missouri 63166-2034. Comments can also be sent electronically to Comments.applications@stls.frb.org:

1. Laura Nell Lawless, Jonathan Lawless, Andrew J. Lawless, Jackson E. Lawless, and Robert R. Lawless, all of Bowling Green, Kentucky; Karan Annette Cowan Linkous Revocable Trust, Karan O'Sullivan, as trustee, John T. Linkous, and Laura E. Linkous, all of Edmonton, Kentucky; John Robert Cowen, Jacob Cowan, Luke Cowan, and Seth Cowan, all of Lexington, Kentucky; as a family control group acting in concert, to retain voting shares of Edmonton Bancshares, Inc., Edmonton, Kentucky, and thereby indirectly retain voting shares of Edmonton State Bank, Glasgow, Kentucky.

In addition, the Kimberly P. Thompson Irrevocable Trust, John N. Thompson, as trustee, both of Brentwood, Tennessee; the Julie C. Thompson Irrevocable Trust, David W. Thompson, as trustee, both of Edmonton, Kentucky; to retain voting shares of Edmonton Bancshares, Inc., Edmonton, Kentucky, and thereby indirectly retain voting shares of Edmonton State Bank, Glasgow, Kentucky.

2. Julie Ann Swope 2020 Trust and Julie Ann Swope Family Trust, Julie Ann Swope, as trustee, Patrick & Julie Swope Children's Trust No. 1, Robin Ann George, Patrick Holt Swope and Julie Ann Swope, as co-trustees, two Minor Children, Patrick Holt Swope, as custodian of each, Charles E. George 2020 Trust, Charles E. George, as trustee, Charles & Samantha George Children's Trust No. 1, Robin Ann George, Charles E. George and Samantha George, as co-trustees, Charles E. George Family Trust, Charles E. George, as trustee, all of Springdale, Arkansas; Evans Family Revocable Trust, David R. Evans and Cathy George Evans, as co-trustees, Siems Family Joint Revocable Living Trust, Linden E. Siems and Brandon Siems, as co-trustees, Two Minor Child Crummey Trusts, Linden E. Siems, as trustee, Cathy George Evans Children's Trust No. 2, David R. Evans and Cathy George Evans, as co-trustees, Martin Swope, all of Fayetteville, Arkansas; 2020 Gary C. George Children's Trust No. 2, Julie Ann Swope and Charles E. George, as co-trustees, all of Springdale, Arkansas, and Mary Kathryn Brown and Carl E. George, both of Fayetteville, Arkansas, also as co-trustees; Mary Kathryn Brown 2020 Trust, Springdale, Arkansas, Mary Kathryn Brown, as trustee, Fayetteville, Arkansas; Mary Kathryn and Matt Brown Children's Trust No. 1, Robin Ann George, as co-trustee, both of Springdale, Arkansas, and Matthew J. Brown and Mary Kathryn Brown, also as co-trustees, both of Fayetteville, Arkansas; Carl E. George 2020 Trust, Springdale, Arkansas, Carl E. George, as trustee, Fayetteville, Arkansas; Carl & Anna George Children's Trust No. 1, Robin Ann George, as co-trustee, both of Springdale, Arkansas, and Carl E. George and Anna George, also as co-trustees, both of Fayetteville, Arkansas; Mary Kathryn Brown Family Trust, Springdale, Arkansas, Mary Kathryn Brown, as trustee, Fayetteville, Arkansas; Carl E. George Family Trust, Springdale, Arkansas, Carl E. George, as trustee, Fayetteville, Arkansas; Loyd R. Swope and Carole C. Swope, both of Lincoln, Arkansas; Erin E. Bridges Revocable Trust, Erin E. Bridges, as trustee, both of Elkins, Arkansas; and two Minor Child Crummey Trusts, Fayetteville, Arkansas, Erin E. Bridges, as trustee, Elkins, Arkansas; as part of a family control group acting in concert, to retain voting shares of Legacy BancShares, Inc., and thereby indirectly retain voting shares of Legacy National Bank, both of Springdale, Arkansas.

3. Gary C. George LNB Trust, Gary C. George, as trustee, Robin Ann George LNB Trust, Robin Ann George, as trustee, Julie Ann Swope LNB Trust, Julie Ann Swope, as trustee, Charles E. George LNB Trust, Charles E. George, as trustee, all of Springdale, Arkansas; Mary Kathryn Brown LNB Trust, Mary Kathryn Brown, as trustee, both of Fayetteville, Arkansas; Carl E. George LNB Trust, Springdale, Arkansas, Carl E. George, as trustee, Fayetteville, Arkansas;, as part of a family control group acting in concert, to acquire voting shares of Legacy BancShares, Inc., and thereby indirectly acquire voting shares of Legacy National Bank, both of Springdale, Arkansas.

4. Patrick Holt Swope Revocable Trust, Patrick Holt Swope, as trustee, and Samantha Pacaccio George Revocable Trust, Samantha Pacaccio George, as trustee, all of Springdale, Arkansas; Matthew J. Brown Revocable Trust, Matthew J. Brown, as trustee, and Anna Roblee George Revocable Trust, Anna Roblee George, as trustee, all of Fayetteville, Arkansas; as part of a family control group acting in concert, to acquire additional voting shares of Legacy BancShares, Inc., and thereby indirectly acquire voting shares of Legacy National Bank, both of Springdale, Arkansas.

Board of Governors of the Federal Reserve System.
Erin Cayce,
Assistant Secretary of the Board.

[FR Doc. 2023-20389 Filed 9-19-23; 8:45 am]

BILLING CODE P